DEPARTMENT OF ENERGY

Federal Energy Regulatory Commission

Combined Notice of Filings

Take notice that the Commission has received the following Natural Gas and Oil Pipeline Rate and Refund Report filings:

Filings Instituting Proceedings

Docket Numbers: RP22-921-000.

Applicants: Tennessee Gas Pipeline Company, L.L.C.

Description: Tennessee Gas Pipeline Company, L.L.C's Producer Certified Gas Informational Report for the 12-month period ending June 30, 2023.

Filed Date: 7/31/23.

Accession Number: 20230731-5152.

Comment Date: 5 p.m. ET 8/14/23.

Docket Numbers: RP23-932-000.

Applicants: Wyoming Interstate Company, L.L.C.

Description: § 4(d) Rate Filing: Fuel _LU Quarterly Update Filing Eff Sep 2023 to be effective 9/1/2023.

Filed Date: 7/31/23.

Accession Number: 20230731-5110.

Comment Date: 5 p.m. ET 8/14/23.

Docket Numbers: RP23-933-000.

Applicants: Ruby Pipeline, L.L.C.

Description: § 4(d) Rate Filing: RP 2023-07-31 FL&U and EPC Rate Adjustment to be effective 9/1/2023.

Filed Date: 7/31/23.

Accession Number: 20230731-5126.

Comment Date: 5 p.m. ET 8/14/23.

Docket Numbers: RP23-934-000.

Applicants: Transcontinental Gas Pipe Line Company, LLC.

Description: § 4(d) Rate Filing: Rate Schedule S-2 Tracker Filing eff 8/1/2023 to be effective 8/1/2023.

Filed Date: 7/31/23.

Accession Number: 20230731-5148.

Comment Date: 5 p.m. ET 8/14/23.

Docket Numbers: RP23-935-000.

Applicants: Natural Gas Pipeline Company of America LLC.

Description: § 4(d) Rate Filing: Negotiated Rate Agreement—La Frontera #156044 to be effective 8/1/2023.

Filed Date: 7/31/23.

Accession Number: 20230731-5155.

Comment Date: 5 p.m. ET 8/14/23.

Docket Numbers: RP23-936-000.

Applicants: Transcontinental Gas Pipe Line Company, LLC.

Description: § 4(d) Rate Filing: Negotiated Rates—Cherokee AGL—Replacement Shippers—Aug 2023 to be effective 8/1/2023.

Filed Date: 7/31/23.

Accession Number: 20230731-5163.

Comment Date: 5 p.m. ET 8/14/23.

Docket Numbers: RP23-937-000.

Applicants: Rockies Express Pipeline LLC.

Description: § 4(d) Rate Filing: REX 2023-07-31 Negotiated Rate Agreement to be effective 8/1/2023.

Filed Date: 7/31/23.

Accession Number: 20230731-5212.

Comment Date: 5 p.m. ET 8/14/23.

Docket Numbers: RP23-938-000.

Applicants: El Paso Natural Gas Company, L.L.C.

Description: § 4(d) Rate Filing: Non-Conforming Agreements Filing (UNS 2023) to be effective 9/1/2023.

Filed Date: 7/31/23.

Accession Number: 20230731-5225.

Comment Date: 5 p.m. ET 8/14/23.

Docket Numbers: RP23-939-000.

Applicants: Equitrans, L.P.

Description: § 4(d) Rate Filing: Negotiated Rate Capacity Release Agreements—8/1/2023 to be effective 8/1/2023.

Filed Date: 8/1/23.

Accession Number: 20230801-5001.

Comment Date: 5 p.m. ET 8/14/23.

Docket Numbers: RP23-940-000.

Applicants: Gulf South Pipeline Company, LLC.

Description: § 4(d) Rate Filing: Cap Rel Neg Rate Agmt (Osaka 46429 to Texla 56433) to be effective 8/1/2023.

Filed Date: 8/1/23.

Accession Number: 20230801-5011.

Comment Date: 5 p.m. ET 8/14/23.

Docket Numbers: RP23-941-000.

Applicants: Gulf Run Transmission, LLC.

Description: § 4(d) Rate Filing: Interim Transporter's Use Filing—Effective 9-1-2023 to be effective 9/1/2023.

Filed Date: 8/1/23.

Accession Number: 20230801-5023.

Comment Date: 5 p.m. ET 8/14/23.

Docket Numbers: RP23-942-000.

Applicants: Algonquin Gas Transmission, LLC.

Description: § 4(d) Rate Filing: Negotiated Rates—Various Releases eff 8-1-23 to be effective 8/1/2023.

Filed Date: 8/1/23.

Accession Number: 20230801-5028.

Comment Date: 5 p.m. ET 8/14/23.

Docket Numbers: RP23-943-000.

Applicants: UGI Storage Company.

Description: Annual Report of Operational Purchases and Sales of UGI Storage Company.

Filed Date: 8/1/23.

Accession Number: 20230801-5062.

Comment Date: 5 p.m. ET 8/14/23.

Docket Numbers: RP23-944-000.

Applicants: Alliance Pipeline L.P.

Description: § 4(d) Rate Filing: Negotiated Rates—Various Aug 1 2023 Releases to be effective 8/1/2023.

Filed Date: 8/1/23.

Accession Number: 20230801-5060.

Comment Date: 5 p.m. ET 8/14/23.

Docket Numbers: RP23-945-000.

Applicants: Rover Pipeline LLC.

Description: § 4(d) Rate Filing: Summary of Negotiated Rate Capacity Release Agreements 8-1-23 to be effective 8/1/2023.

Filed Date: 8/1/23.

Accession Number: 20230801-5069.

Comment Date: 5 p.m. ET 8/14/23.

Docket Numbers: RP23-946-000.

Applicants: El Paso Natural Gas Company, L.L.C.

Description: § 4(d) Rate Filing: Non-Conforming Agreements Filing (Tenaska 2023) to be effective 9/1/2023.

Filed Date: 8/1/23.

Accession Number: 20230801-5078.

Comment Date: 5 p.m. ET 8/14/23.

Docket Numbers: RP23-947-000.

Applicants: El Paso Natural Gas Company, L.L.C.

Description: § 4(d) Rate Filing: Negotiated Rate Agreement Update (Hartree TSA 610670 Aug 2023) to be effective 8/2/2023.

Filed Date: 8/1/23.

Accession Number: 20230801-5080.

Comment Date: 5 p.m. ET 8/14/23.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

Filings in Existing Proceedings

Docket Numbers: RP23-377-003.

Applicants: WBI Energy Transmission, Inc.

Description: Compliance filing: 2023 Motion Filing to be effective 8/1/2023.

Filed Date: 7/31/23.

Accession Number: 20230731-5185.

Comment Date: 5 p.m. ET 8/14/23.

Any person desiring to protest in any the above proceedings must file in accordance with Rule 211 of the Commission's Regulations (18 CFR 385.211) on or before 5:00 p.m. Eastern time on the specified comment date.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

For other information, call (866) 208-3676 (toll free). For TTY, call (202) 502-8659. The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: August 1, 2023.
Debbie-Anne A. Reese,
Deputy Secretary.

[FR Doc. 2023-16787 Filed 8-4-23; 8:45 am]

BILLING CODE 6717-01-P